ENVIRONMENTAL PROTECTION AGENCY

[EPA-HQ-OPPT-2016-0713; FRL-9956-17]

Nominations to the Science Advisory Committee on Chemicals; Request for Comments

AGENCY: Environmental Protection Agency (EPA).

ACTION: Notice.

SUMMARY: This document provides the names and affiliations of nominees currently under consideration for appointment to the Science Advisory Committee on Chemicals (SACC) established pursuant to the Frank R. Lautenberg Chemical Safety for the 21st Century Act. The purpose of the SACC is to provide independent advice and expert consultation, at the request of the EPA Administrator, with respect to the scientific and technical aspects of risk assessments, methodologies, and pollution prevention measures or approaches. The Agency, at this time, anticipates selecting approximately fourteen members to serve on the Committee. Public comments on the nominees are invited, as these comments will be used to assist the Agency in selecting the new chartered Committee members.

DATES: Comments must be received on or before January 9, 2017.

ADDRESSES: Submit your comments, identified by docket identification (ID) number EPA-HQ-OPPT-2016-0713, by one of the following methods:

• Federal eRulemaking Portal: https://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Tamue Gibson, DFO, Office of Science Coordination and Policy (7201M), Environmental Protection Agency, 1200 Pennsylvania Ave. NW., Washington, DC 20460-0001; telephone number: (202) 564-7642; email address: gibson.tamue@epa.gov.

SUPPLEMENTARY INFORMATION:

I. General Information

A. Does this action apply to me?

This action is directed to the public in general. This action may be of interest to those involved in the manufacture, processing, distribution, disposal, and/or interested in the assessment of risks involving chemical substances and mixtures. Since other entities may also be interested, the Agency has not attempted to describe all the specific entities that may be affected by this action.

B. What is EPA's authority?

This committee is being established under FACA, 5 U.S.C. Appendix 2, and pursuant to the Frank R. Lautenberg Chemical Safety for the 21st Century Act, which amended the Toxic Substances Control Act (TSCA), 15 U.S.C. 2601 et seq.

II. Background

The SACC is being established under FACA section 9(a), and pursuant to TSCA section 2625(o), as amended, to provide advice and recommendations on the scientific basis for risk assessments, methodologies, and pollution prevention measures or approaches.

EPA's Office of Pollution Prevention and Toxics (OPPT) manages programs under TSCA (as amended), 15 U.S.C. 2601 et seq. and the Pollution Prevention Act (PPA), 42 U.S.C. 13101 et seq. Under these laws, EPA evaluates new and existing chemical substances and their risks, and finds ways to prevent or reduce pollution before it is released into the environment. OPPT also manages a variety of environmental stewardship programs that encourage companies to reduce and prevent pollution.

The SACC will be composed of approximately 14 members who will serve as Special Government Employees or Regular Government Employees (RGEs). The SACC expects to meet in person or by electronic means (e.g., webinar) approximately 3 to 4 times a year, or as needed and approved by the Designated Federal Officer (DFO). Meetings will be held in the Washington, DC metropolitan area. The charter will be in effect for 2 years from the date it is filed with Congress. After the initial 2-year period, the charter will be renewed as authorized in accordance with section 14 of FACA (5 U.S.C. Appendix 2, Section 14). A copy of the charter will be available on the EPA Web site and in the docket.

III. Charter

A Charter for the SACC will be issued in accordance with the requirements of FACA.

A. Qualifications of Members

Members are scientists who have sufficient professional qualifications, including training and experience, to provide expert comments on the scientific and technical aspects of risk assessments, methodologies, and pollution prevention measures or approaches. No persons shall be ineligible to serve on the Committee by reason of their membership on any other advisory committee to a Federal department or agency or their employment by a Federal department or agency (except the EPA). The Administrator appoints individuals to serve on the Committee for staggered terms of 1 to 3 years. Panel members are subject to the provisions of 40 CFR part 3, subpart F, Standards of Conduct for Special Government Employees, which include rules regarding conflicts of interest. Each nominee selected by the Administrator, before being formally appointed, is required to submit a confidential statement of employment and financial interests, which shall fully disclose, among other financial interests, the nominee's sources of research support, if any.

B. Applicability of Existing Regulations

EPA's existing regulations applicable to Special Government Employees, which include advisory committee members, will apply to the members of the Science Advisory Committee on Chemicals. These regulations appear in 40 CFR part 3, subpart F.

C. Process of Obtaining Nominees

On August 26, 2016, EPA published a Federal Register inviting public nominations for the Science Advisory Committee on Chemicals (81 FR 58925) (FRL-9950-66). The nomination period ended on October 11, 2016. In response, the Agency received approximately 100 nominees. EPA considered the following criteria to select candidates from these nominations: Interest and availability to participate in committee meetings, absence of financial conflicts of interest, absence of the appearance of a loss of impartiality, scientific expertise, and backgrounds and experiences that would contribute to the diversity of scientific viewpoints on the committee, including professional experiences in government, labor, public health, public interest, animal protection, industry, or other groups.

Based on these criteria, EPA has identified 29 candidates for further consideration for membership on the SACC. Nine of these candidates are members of the existing EPA Chemical Safety Advisory Committee. The following are the names and professional affiliations of these candidates. Brief biographical sketches for these candidates are posted on the EPA Web site at https://www.epa.gov/TSCA-Peer-Review.

1. Henry A. Anderson, M.D., Adjunct Professor, Institute for Environmental Studies, University of Wisconsin- Madison, Madison, WI.

2. Holger Behrsing, Ph.D., Principal Scientist (Respiratory Toxicology Program), Institute for In Vitro Sciences, Inc., Gaithersburg, MD.

3. James V. Bruckner, Ph.D., Professor, Pharmacology and Toxicology, Department of Pharmaceutical & Biomedical Sciences, College of Pharmacy, University of Georgia, Athens, GA.

4. Stuart Cagen, Ph.D., Senior Toxicologist, Shell Health, Houston, TX.

5. Deborah Cory-Slechta, Ph.D., Professor, Environmental Medicine, Pediatrics and Public Health Sciences, University of Rochester Medical School, Rochester, NY.

6. Holly Davies, Ph.D., Senior Toxicologist, Department of Ecology, State of Washington, Olympia, WA.

7. William Doucette, Ph.D., Professor, Department of Civil and Environmental Engineering, Utah State University, Logan, UT.

8. Panos G. Georgopoulos, Ph.D., Professor of Environmental and Occupational Health, Rutgers Biomedical and Health Sciences—School of Public Health, Rutgers, The State University of New Jersey, Piscataway, NJ.

9. Kathleen Gilbert, Ph.D., Professor, Department of Microbiology and Immunology, University of Arkansas for Medical Sciences, Little Rock, AR.

10. Gary Ginsberg, Ph.D., Senior Toxicologist, Connecticut Department of Public Health, Hartford, CT.

11. Concepcion Jimenez Gonzalez, Ph.D., Program Director, Global Manufacturing & Supply, GlaxoSmithKline, Raleigh-Durham, NC.

12. Michael A Jayjock, Ph.D. CIH, Sole Proprietor, Jayjock Associates, LLC, Langhorne, PA.

13. Alan Kaufman, Senior VP, Technical Affairs, Toy Industry Association (TIA), New York, NY.

14. John Kissel, Ph.D., Professor of Environmental and Occupational Health Sciences, University of Washington, Seattle, WA.

15. Melanie Marty, Ph.D., Former Acting Deputy Director for Scientific Affairs (Retired), Office of Environmental Hazard and Health Assessment, California Environmental Protection Agency, Sacramento, CA.

16. Jaymie Meliker, Ph.D., Associate Professor, Program in Public Health, Department of Family, Population, & Preventive Medicine, Stony Brook University, Stony Brook, NY.

17. Kenneth Portier, Ph.D., Vice President, Statistics and Evaluation Center, American Cancer Society, Atlanta, GA.

18. J. Craig Rowlands, Ph.D., Sr. Toxicologist, Business Development and Innovation, UL Supply Chain & Sustainability, Underwriters Laboratories, LLC, Northbrook, IL.

19. Sheela Sathyanarayana MD, M.P.H., Seattle Children's Research Institute, Center for Health, Behavior, and Development, Associate Professor, Pediatrics and Adjunct Associate Professor Department of Environmental and Occupational Health Sciences, University of Washington, Seattle, WA.

20. Val Schaeffer, Ph.D., Senior Health Scientist, Office of the Director, Directorate of Standards and Guidance, U.S. Occupational Safety and Health Administration, Washington, DC.

21. Daniel Schlenk, Ph.D., Professor of Aquatic Ecotoxicology and Environmental Toxicology, University of California, Riverside, Riverside, CA.

22. Kristie Sullivan, M.P.H., Director, Regulatory Testing Issues, Physicians Committee for Responsible Medicine, Washington DC.

23. Kristina Thayer, Ph.D., Deputy Division Director of Analysis and Director, Office of Health Assessment and Translation, National Toxicology Program, National Institute of Environmental Health Sciences, Research Triangle Park, NC.

24. Leonardo Trasande, MD, M.P.P. Associate Professor in Pediatrics, Environmental Medicine and Population Health, New York University, School of Medicine, New York, NY.

25. Laura N. Vandenberg, Ph.D. Department of Environmental Health Science, School of Public Health & Health Sciences, University of Massachusetts—Amherst, Amherst, MA.

26. Chris L. Waller, Ph.D., Executive Director & Head, Scientific Modeling Platforms, Merck Research Laboratories, Boston, MA.

27. Christine Whittaker, Ph.D., Chief, Risk Evaluation Branch, Education and Information Division, National Institute for Occupational Safety and Health, Centers for Disease Control, Cincinnati, OH.

28. Catherine Willett, Ph.D., Director, Regulatory Toxicology, Risk Assessment & Alternatives Coordinator, The Humane Society of the United States, Washington, DC.

29. Tracey Woodruff, Ph.D., M.P.H., Professor in Residence and Director, Program on Reproductive Health and the Environment, Department of Obstetrics, Gynecology, and Reproductive Sciences, University of California, San Francisco, San Francisco, CA.

Authority: 15 U.S.C. 2601 et seq.; 5 U.S.C. Appendix 2 et seq.

Dated: December 2, 2016.
Stanley Barone,
Director, Office of Science Coordination and Policy.

[FR Doc. 2016-29579 Filed 12-8-16; 8:45 am]

BILLING CODE 6560-50-P